DEPARTMENT OF HEALTH AND HUMAN SERVICES

Meeting of the Presidential Advisory Council on HIV/AIDS

AGENCY: Office of the Assistant Secretary for Health, Office of the Secretary, Department of Health and Human Services.

ACTION: Notice of a meeting.

SUMMARY: As stipulated by the Federal Advisory Committee Act, the U.S. Department of Health and Human Service is hereby giving notice that the Presidential Advisory Council on HIV/AIDS (PACHA or the Council) will convene the 81st full council meeting on Wednesday, June 5-Thursday, June 6, 2024. The meeting will include panels on the state of HIV science; agencies' perspectives on ending the HIV epidemic; State-level system approaches from health departments; and anti-LGBTQI+ laws and their impact nationally & globally. It will be open to the public and there will be a public comment session during the meeting; pre-registration is required to provide public comment. To pre-register to provide public comment, please send an email to PACHA@hhs.gov and include your name, organization, and title by close of business Tuesday, May 28, 2024. If you decide you would like to provide public comment but do not pre-register, you may submit your written statement by emailing PACHA@hhs.gov by close of business Thursday, June 13, 2024. The meeting agenda will be posted on the PACHA page on HIV.gov at https://www.hiv.gov/federal-response/pacha/about-pacha prior to the meeting.

DATES: The meeting will convene on Wednesday, June 5, 2024 from approximately 9 a.m. to 5 p.m. (ET) and Thursday, June 6, 2024 from approximately 9 a.m. to 4 p.m. (ET).

ADDRESSES: DoubleTree Crystal City Hotel, 300 Army Navy Dr., Arlington, Virginia 22202. To attend the meeting virtually, please visit www.hhs.gov/live.

FOR FURTHER INFORMATION CONTACT: Ms. Chloe Loving, MPH, Committee Manager for PACHA, at PACHA@hhs.gov or 202-795-7697. Additional information can be obtained by accessing the Council's page on the HIV.gov site at www.hiv.gov/pacha.

SUPPLEMENTARY INFORMATION: PACHA was established by Executive Order 12963, dated June 14, 1995, as amended by Executive Order 13009, dated June 14, 1996 and is currently operating under the authority given in Executive Order 14109, dated September 29, 2023. The Council was established to provide advice, information, and recommendations to the Secretary regarding programs and policies intended to promote effective HIV diagnosis, treatment, prevention, and quality care services. The functions of the Council are solely advisory in nature.

The Council consists of not more than 35 members. Council members are selected from prominent community leaders with particular expertise in, or knowledge of, matters concerning HIV and AIDS, public health, global health, population health, philanthropy, marketing or business, as well as other national leaders held in high esteem from other sectors of society. PACHA selections also include persons with lived HIV experience and persons disproportionately affected by HIV. Council members are appointed by the Secretary.

Dated: May 15, 2024.
Caroline Talev,
Executive Director, Presidential Advisory Council on HIV/AIDS, Senior Management Analyst, Office of Infectious Disease and HIV/AIDS Policy, Office of the Assistant Secretary for Health, Department of Health and Human Services.

[FR Doc. 2024-11369 Filed 5-22-24; 8:45 am]

BILLING CODE 4150-43-P